DEPARTMENT OF JUSTICE

Antitrust Division

Notice Pursuant to the National Cooperative Research and Production Act of 1993; the Association of Public-Safety Communications Officials International

Notice is hereby given that, on May 22, 2009, pursuant to Section 6(a) of the National Cooperative Research and Production Act of 1993, 15 U.S.C. 4301 et seq. (“the Act”), The Association of Public-Safety Communications Officials International (“APCO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: The Association of Public-Safety Communications Officials International, Daytona Beach, FL. The nature and scope of APCO's standards development activities are: Public safety communications, including, but not limited to: training and professional development, professional qualifications, education, performance programs, technology, systems, operations, and other related issues.

Patricia A. Brink,
Deputy Director of Operations, Antitrust Division.

[FR Doc. E9-16781 Filed 7-15-09; 8:45 am]

BILLING CODE 4410-11-P